DEPARTMENT OF TRANSPORTATION

Federal Aviation Administration

14 CFR Part 39

[Docket No. FAA-2012-0038; Directorate Identifier 2011-NM-209-AD; Amendment 39-17153; AD 2012-16-06]

RIN 2120-AA64

Airworthiness Directives; Airbus Airplanes

AGENCY: Federal Aviation Administration (FAA), Department of Transportation (DOT).

ACTION: Final rule.

SUMMARY: We are adopting a new airworthiness directive (AD) for all Airbus Model A300 B4-600 series airplanes and Model A310-203, -204, -221, and -222 airplanes. This AD was prompted by a report of a capacitive density condensator (cadensicon) coil overheating during testing. This AD requires an inspection to determine if a certain fuel quantity indication computer (FQIC) is installed, replacement of identified FQICs, and modification of the associated wiring. We are issuing this AD to detect and correct potential overheating of the cadensicon coil, which could create an ignition source inside a fuel tank, which, in combination with flammable fuel vapors, could result in a fuel tank explosion and consequent loss of the airplane.

DATES: This AD becomes effective September 18, 2012.

The Director of the Federal Register approved the incorporation by reference of certain publications listed in this AD as of September 18, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on February 7, 2012 (77 FR 6023). That NPRM proposed to correct an unsafe condition for the specified products. The MCAI states:

In view to address the scope of Special Federal Aviation Regulation 88 (SFAR 88) (66 FR 23086, May 7, 2001) and the equivalent JAA Internal Policy INT/POL/25/12, a safety analysis of Fuel Quantity Indication Computers (FQIC) fitted to Wide Body aeroplanes has been performed.

Detailed analysis has shown that on early standard FQIC, Type 1, there is an insufficient gap on the printed circuit board between an 115V [volt] supply and a direct path to the Capacitive Density Condensator (Cadensicon).

During tests that were carried out applying 115V to the Cadensicon coil, measured temperature levels were in excess of the acceptable level of 200°C. This potential overheating of the Cadensicon coil could be a possible ignition point within the fuel tank.

This condition, if left uncorrected, could create an ignition source in the tank vapour space, possibly resulting in a wing fuel tank explosion and consequent loss of the aeroplane.

For the reasons explained above, this [European Aviation Safety Agency] AD requires the replacement of all Type 1 FQICs with Type 2 FQICs.

You may obtain further information by examining the MCAI in the AD docket.

Comments

We gave the public the opportunity to participate in developing this AD. We have considered the comment received.

Request for Extension of Compliance Time

FedEx requested that we revise the compliance time for the actions required by paragraph (g) of the NPRM (77 FR 6023, February 7, 2012), from 30 months to 36 months. FedEx explained that the lead time for the Airbus kit part number 282039A01R01 is 60 days, as listed in Airbus Mandatory Service Bulletin A310-28-2039, Revision 01, dated January 19, 2011. FedEx explained further that a 30-day lead-time was quoted from Intertechnique for a Type 2 FQIS unit. FedEx expressed that while the 30 months aligns with the heavy maintenance schedule for Model A310 airplanes, it would take time to procure the new FQIS units and kits required to comply with the NPRM. Therefore, the additional 6 months it proposed for scheduling and material procurement will allow the work to be performed during a heavy maintenance check for all FedEx airplanes.

We disagree to revise the compliance time in the final rule. In developing an appropriate compliance time, we considered the safety implications, parts availability, and normal maintenance schedules for timely accomplishment of the required actions in the final rule. However, under the provisions of paragraph (i) of this AD, we will consider requests for approval of an alternative method of compliance (AMOC) if sufficient data are submitted to substantiate that the change would provide an acceptable level of safety. We have not changed the AD in this regard.

Conclusion

We reviewed the available data, including the comment received, and determined that air safety and the public interest require adopting the AD as proposed—except for minor editorial changes. We have determined that these minor changes:

• Are consistent with the intent that was proposed in the NPRM (77 FR 6023, February 7, 2012) for correcting the unsafe condition; and

• Do not add any additional burden upon the public than was already proposed in the NPRM (77 FR 6023, February 7, 2012).

Costs of Compliance

We estimate that this AD will affect 53 products of U.S. registry. We also estimate that it will take about 6 work-hours per product to comply with the basic requirements of this AD. The average labor rate is $85 per work-hour. Required parts will cost about $200 per product. Where the service information lists required parts costs that are covered under warranty, we have assumed that there will be no charge for these parts. As we do not control warranty coverage for affected parties, some parties may incur costs higher than estimated here. Based on these figures, we estimate the cost of this AD to the U.S. operators to be $37,630, or $710 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 6023, February 7, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-16-06 Airbus: Amendment 39-17153. Docket No. FAA-2012-0038; Directorate Identifier 2011-NM-209-AD.

(a) Effective Date

This airworthiness directive (AD) becomes effective September 18, 2012.

(b) Affected ADs

None.

(c) Applicability

This AD applies to Airbus Model A300 B4-601, B4-603, B4-620, and B4-622 airplanes, and Model A310-203, -204, -221, and -222 airplanes, certificated in any category, all manufacturer serial numbers.

(d) Subject

Air Transport Association (ATA) of America Code 28: Fuel.

(e) Reason

This AD was prompted by a report of a capacitive density condensator (cadensicon) coil overheating during testing. We are issuing this AD to detect and correct potential overheating of the cadensicon coil, which could create an ignition source inside a fuel tank, which, in combination with flammable fuel vapors, could result in a fuel tank explosion and consequent loss of the airplane.

(f) Compliance

You are responsible for having the actions required by this AD performed within the compliance times specified, unless the actions have already been done.

(g) Actions

Within 30 months after the effective date of this AD, inspect to determine whether any fuel quantity indication computer (FQIC) Type 1, having part number (P/N) SIC5054 or P/N SIC5051 (as applicable to the airplane model), is installed, in accordance with the Accomplishment Instructions of Airbus Mandatory Service Bulletin A300-28-6024, Revision 02, dated January 19, 2011; or Airbus Mandatory Service Bulletin A310-28-2039, Revision 01, dated January 19, 2011; as applicable. A review of airplane maintenance records is acceptable in lieu of this inspection if the part number of the FQIC can be conclusively determined from that review. If any FQIC Type 1 having P/N SIC5054 or P/N SIC5051 is installed, within 30 months after the effective date of this AD, replace the FQIC Type 1 with a FQIC Type 2 having P/N SIC5055, P/N SIC5076, P/N SIC5082, or P/N SIC5083 (as applicable to Model A310 series airplanes) or with a FQIC Type 2 having P/N SIC5077 (as applicable to Model A300 B4-600 series airplanes), and modify the associated wiring, in accordance with the Accomplishment Instructions of Airbus Mandatory Service Bulletin A300-28-6024, Revision 02, dated January 19, 2011; or Airbus Mandatory Service Bulletin A310-28-2039, Revision 01, dated January 19, 2011; as applicable.

(h) Parts Installation Prohibition

As of the effective date of this AD, no person may install any FQIC Type 1 having P/N SIC5054 or P/N SIC5051, on any airplane.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to Attn: Dan Rodina, Aerospace Engineer, International Branch, ANM-116, Transport Airplane Directorate, FAA, 1601 Lind Avenue SW., Renton, Washington 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to MCAI European Aviation Safety Agency Airworthiness Directive 2011-0186, dated September 23, 2011, and the service information specified in paragraphs (j)(1) and (j)(2) of this AD, for related information.

(1) Airbus Mandatory Service Bulletin A300-28-6024, Revision 02, dated January 19, 2011.

(2) Airbus Mandatory Service Bulletin A310-28-2039, Revision 01, dated January 19, 2011.

(k) Material Incorporated by Reference

(1) The Director of the Federal Register approved the incorporation by reference (IBR) of the following service information under 5 U.S.C. 552(a) and 1 CFR part 51.

(2) You must use the following service information to do the actions required by this AD, unless the AD specifies otherwise.

(i) Airbus Mandatory Service Bulletin A300-28-6024, Revision 02, dated January 19, 2011.

(ii) Airbus Mandatory Service Bulletin A310-28-2039, Revision 01, dated January 19, 2011.

(3) For Airbus service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on July 31, 2012.
Michael Kaszycki,
Acting Manager, Transport Airplane Directorate, Aircraft Certification Service.

[FR Doc. 2012-19254 Filed 8-13-12; 8:45 am]

BILLING CODE 4910-13-P